DEPARTMENT OF AGRICULTURE

Office of Advocacy and Outreach

Beginning Farmers and Ranchers Advisory Committee

AGENCY: Office of Advocacy and Outreach, USDA.

ACTION: Notice of public meeting.

SUMMARY: Pursuant to the Federal Advisory Committee Act (FACA), the Office of Advocacy and Outreach (OAO) is announcing a meeting of the Beginning Farmers and Ranchers Advisory Committee (Committee). The Committee is being convened to consider issues involving communications, service, and advocacy in identifying barriers for beginning farmers and ranchers. They will also consider issues around lending and credit in parsing statistics generated by USDA. Finally, the members will be drafting agency program-specific recommendations.

DATES: The meeting will be held on Tuesday and Wednesday, September 23-24, 2014, from 9:00 a.m.-5:00 p.m. CST. There will be time allotted at the end of each day from 4:00-4:30 p.m. for public comments. All persons wishing to make comments during this meeting must check-in between 8:30 a.m. and 9:00 a.m. on both days at the registration table. All public commenters will be allowed a maximum of three minutes. If the number of registrants requesting to speak is greater than what can be reasonably accommodated during the scheduled open public hearing timeframe, a lottery will be implemented to determine the speakers for the scheduled open public comment session.

ADDRESSES: This public advisory committee meeting will be held at the Austin Marriott South, 4415 S. IH-35, Austin, TX 78744. Complimentary parking is available on site. There is also a short-term drop-off area directly in front of the entrance to the hotel property. There will be signs in the main lobby of the hotel noting the meeting room assignments.

A listen-only conference call line will be available from 9:00 a.m. through 5:00 p.m. CST each day for all who wish to listen in on the proceeding through the following telephone number: (888) 942-8514 and enter passcode 6697201.

FOR FURTHER INFORMATION CONTACT: Questions should be directed to Phyllis Morgan, Executive Assistant, OAO, 1400 Independence Ave. SW., Whitten Bldg., 520-A, Washington, DC 20250, Phone: (202) 720-6350, Fax: (202) 720-7136, email: Phyllis.Morgan@osec.usda.gov.

Public written comments for the Committee's consideration may be submitted, by close of business September 17, 2014, to Mrs. Kenya Nicholas, Designated Federal Official, USDA OAO, 1400 Independence Avenue SW., Room 520-A, Washington, DC 20250-0170, Phone (202) 720-6350, Fax (202) 720-7136, Email: ACBFR@osec.usda.gov.

SUPPLEMENTARY INFORMATION: FACA requires that notices for advisory committee meetings be published in the Federal Register at a minimum of 15 days prior to the meeting date. The Committee recently met in Davis, California to consider the efficiency and value of programs and policies of the Department's programs affecting new farmers and ranchers. The Farm Service Agency, Natural Resource Conservation Service, Rural Development, Marketing and Regulatory Programs (Organic and Sustainable Agriculture), and the Agricultural Marketing Service put specific questions before the Committee as a context for the recommendations. In addition to finalizing those recommendations, the Committee may also be asked to consider new inquiries from these programs on policies that affect beginning farmers and ranchers. Representatives from all agencies represented at the June 2014 meeting will be available (on-call via teleconference) to respond to any clarifying questions the Committee may have. Please visit our Web site at: http://www.outreach.usda.gov/smallbeginning/index.htm for additional information on this advisory committee.

The public is asked to pre-register for the meeting at least 10 business days prior to the meeting. You may pre-register for the public meeting at http://www.outreach.usda.gov/committees/ACBFR.htm by clicking on the BFR Meeting Sign Up button or submit an email to ACBFR@osec.usda.gov with your name, organization or affiliation, comments, or any questions for the Committee's consideration. You may also fax this information to (202) 720-7136. Members of the public who request to give comments to the Committee must arrive between 8:30 a.m. and 9:00 a.m. on either day of the meeting and register (confirm) at the check-in table.

Availability of Materials for the Meeting: Please visit the Beginning Farmers and Ranchers Web site for the full agenda. All agenda topics and documents will be made available to the public at: http://www.outreach.usda.gov/smallbeginning/index.htm. Copies of the agenda will also be distributed at the meeting.

Meeting Accommodations: USDA is committed to ensuring that everyone is accommodated in our work environment, programs, and events. If you are a person with a disability and request reasonable accommodations to participate in this meeting, please note the request in your registration and you may contact Mrs. Kenya Nicholas in advance of the meeting by or before close of business September 17, 2014, by phone (202) 720-6350, fax (202) 720-7136, or email: ACBFR@osec.usda.gov.

Issued in Washington, DC, this 2nd day of September, 2014.
Christian Obineme,
Associate Director, Office of Advocacy and Outreach.

[FR Doc. 2014-21244 Filed 9-5-14; 8:45 am]

BILLING CODE P